FEDERAL COMMUNICATIONS COMMISSION

47 CFR Part 73

[DA 07-4123; MB Docket No. 07-211; RM-11400]

Radio Broadcasting Services; Harper, TX

AGENCY: Federal Communications Commission.

ACTION: Proposed rule.

SUMMARY: This document sets forth a proposal to amend the FM Table of Allotments, section 73.202(b) of the Commission's rules, 47 CFR 73.202(b). The Commission requests comment on a petition filed by Katherine Pyeatt. Petitioner proposes the allotment of Channel 256C3 at Harper, Texas, as a first local service. Channel 256C3 can be allotted at Harper in compliance with the Commission's minimum distance separation requirements with a site restriction of 12.9 km (8.0 miles) east of Harper. The proposed coordinates for Channel 256C3 at Harper are 30-16-20 North Latitude and 99-07-25 West Longitude. Concurrence by the Government of Mexico is required for the allotment of Channel 256C3 at Harper, Texas, because the proposed allotment is located within 320 kilometers (199 miles) of the U.S.-Mexican border. See SUPPLEMENTARY INFORMATION infra.

DATES: Comments must be filed on or before November 26, 2007, and reply comments on or before December 11, 2007.

ADDRESSES: Federal Communications Commission, Washington, DC 20554. In addition to filing comments with the FCC, interested parties should serve the designated petitioner and her counsel as follows: Katherine Pyeatt, 3500 Maple Avenue, #1320, Dallas, Texas 75219; and Gene A. Bechtel, Esq., Law Office of Gene Bechtel, 1050 17th Street, NW., Suite 600, Washington, DC 20036.

FOR FURTHER INFORMATION CONTACT: Deborah A. Dupont, Media Bureau (202) 418-7072.

SUPPLEMENTARY INFORMATION: This is a synopsis of the Commission's Notice of Proposed Rule Making, MB Docket No. 07-211, adopted October 3, 2007, and released October 5, 2007. The full text of this Commission decision is available for inspection and copying during normal business hours in the FCC Reference Information Center (Room CY-A257), 445 12th Street, SW., Washington, DC 20554. The complete text of this decision may also be purchased from the Commission's copy contractor, Best Copy and Printing, Inc., 445 12th Street, SW., Room CY-B402, Washington, DC, 20554, (800) 378-3160, or via the company's Web site, http://www.bcpiweb.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(C)(4).

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334, 336.

§ 73.202 [Amended]

2. Section 73.202(b), the Table of FM Allotments under Texas, is amended by adding Harper, Channel 256C3.

Federal Communications Commission.
John A. Karousos,
Assistant Chief, Audio Division, Media Bureau.

[FR Doc. E7-20754 Filed 10-19-07; 8:45 am]

BILLING CODE 6712-01-P